DEPARTMENT OF EDUCATION

[Docket No.: ED-2018-ICCD-0100]

Case Service Report (RSA 911); ED-2018-ICCD-0100; Correction

AGENCY: Office of Special Education and Rehabilitative Services (OSERS), Department of Education (ED).

ACTION: Correction notice.

SUMMARY: On February 15, 2019, the U.S. Department of Education published a 30-day comment period notice in the Federal Register with FR DoC 2019-02373 seeking public comment for an information collection entitled, “Case Service Report (RSA 911)”.

SUPPLEMENTARY INFORMATION:

Correction

In the Federal Register of February 15, 2019, in FR Doc 2019-02373, on page 4452, in the first column, the name and telephone number of the contact should be David Steele, 202-245-6520.

On page 4452, in the second column, the total estimated number of burden hours should be 34,446 hours.

On page 4452, in the third column, the language for the last paragraph of the Abstract section of the notice should read:

The revisions to this instrument include the removal of duplicative data elements as well as those not specifically required by statute or used for statutorily required activities. RSA is proposing to remove 94 elements from the current collection. RSA proposed the addition of 14 elements, 6 of which are related to adding a new service to track VR participant participation in Apprenticeships and Work Based Learning Experiences. RSA is also adding some elements at the request of VR agencies (e.g., Date of Initial IPE and Date of IPE Extension).

The PRA Clearance Coordinator, Information Collection Clearance Program, Information Management Branch, Office of the Chief Information Officer, hereby issues a correction notice as required by the Paperwork Reduction Act of 1995.

Dated: February 15, 2019.
Stephanie Valentine,
PRA Clearance Coordinator, Information Collection Clearance Program, Information Management Branch, Office of the Chief Information Officer.

[FR Doc. 2019-02911 Filed 2-20-19; 8:45 am]

BILLING CODE 4000-01-P